DEPARTMENT OF THE INTERIOR

Bureau of Land Management

[LLMT922200-11-L13100000-FI0000-P;NDM 95192]

Notice of Proposed Reinstatement of Terminated Oil and Gas Lease NDM 95192

AGENCY: Bureau of Land Management, Interior.

ACTION: Notice.

SUMMARY: Per 30 U.S.C. 188(d), Sinclair Oil Corporation and Missouri River Royalty Corporation timely filed a petition for reinstatement of competitive oil and gas lease NDM 95192, McKenzie County, North Dakota. The lessees paid the required rental accruing from the date of termination.

No leases were issued that affect these lands. The lessees agree to new lease terms for rentals and royalties of $10 per acre and 16⅔ percent. The lessees paid the $500 administration fee for the reinstatement of the lease and $163 cost for publishing this Notice.

The lessees met the requirements for reinstatement of the lease per Sec. 31(d) and (e) of the Mineral Leasing Act of 1920 (30 U.S.C. 188). We are proposing to reinstate the lease, effective the date of termination subject to:

• The original terms and conditions of the lease;

• The increased rental of $10 per acre;

• The increased royalty of 16⅔ percent; and

• The $163 cost of publishing this Notice.

FOR FURTHER INFORMATION CONTACT: Teri Bakken, Chief, Fluids Adjudication Section, Bureau of Land Management Montana State Office, 5001 Southgate Drive, Billings, Montana 59101-4669, 406-896-5091.

Persons who use a telecommunications device for the deaf (TDD) may call the Federal Information Relay Service (FIRS) at 1-800-877-8339 to contact the above individual during normal business hours. The FIRS is available 24 hours a day, 7 days a week, to leave a message or question with the above individual. You will receive a reply during normal business hours.

Teri Bakken,
Chief, Fluids Adjudication Section.

[FR Doc. 2011-19653 Filed 8-2-11; 8:45 am]

BILLING CODE 4310-DN-P